COMMISSION ON CIVIL RIGHTS

Notice of Public Meeting of the Nevada Advisory Committee To Discuss and Approve Its Report on Police Militarization

AGENCY: U.S. Commission on Civil Rights.

ACTION: Announcement of meeting.

SUMMARY: Notice is hereby given, pursuant to the provisions of the rules and regulations of the U.S. Commission on Civil Rights (Commission) and the Federal Advisory Committee Act (FACA) that a meeting of the Nevada Advisory Committee (Committee) to the Commission will be held on Friday, June 19, 2015, for the purpose of discussing and voting upon the committee report on the militarization of police. The meeting will be held at Nevada Department of Employment Training and Rehabilitation (NDETR), 2800 East St. Louis Ave., Las Vegas, NV 89104. A second videoconference location for the meeting is NDETR, 1325 Corporate Blvd., Reno, NV 89502. The meeting is scheduled to begin at 1:30 p.m. and adjourn at approximately 3:00 p.m.

Members of the public are entitled to make comments during the open period at the end of the meeting. Members of the public may also submit written comments. The comments must be received in the Western Regional Office of the Commission by July 17, 2015. The address is Western Regional Office, U.S. Commission on Civil Rights, 300 N. Los Angeles Street, Suite 2010, Los Angeles, CA 90012. Persons wishing to email their comments may do so by sending them to Angelica Trevino, Civil Rights Analyst, Western Regional Office, at atrevino@usccr.gov. Persons who desire additional information should contact the Western Regional Office, at (213) 894-3437, (or for hearing impaired TDD 913-551-1414), or by email to atrevino@usccr.gov. Hearing-impaired persons who will attend the meeting and require the services of a sign language interpreter should contact the Regional Office at least ten (10) working days before the scheduled date of the meeting.

Records and documents discussed during the meeting will be available for public viewing prior to and after the meeting at http://facadatabase.gov/committee/meetings.aspx?cid=261 and clicking on the “Meeting Details” and “Documents” links. Records generated from this meeting may also be inspected and reproduced at the Western Regional Office, as they become available, both before and after the meeting. Persons interested in the work of this Committee are directed to the Commission's Web site, http://www.usccr.gov, or may contact the Western Regional Office at the above email or street address.

Agenda: Call to order; Discussion and vote on police militarization report; Open comment; Adjournment.

DATES: Friday, June 19, 2015.

ADDRESSES: NDETR, 2800 East St. Louis Ave., Las Vegas, NV 89104.

FOR FURTHER INFORMATION CONTACT:

Peter Minarik, DFO, at (213) 894-3437 or pminarik@usccr.gov

Dated: May 22, 2015
David Mussatt,
Chief, Regional Programs Coordination Unit.

[FR Doc. 2015-12978 Filed 5-28-15; 8:45 am]

BILLING CODE 6335-01-P